DEPARTMENT OF STATE

[Delegation of Authority No. 462]

Delegation of Management Authorities of the Secretary of State

By virtue of the authority vested in the Secretary of State by the laws of the United States, including 22 U.S.C. 2651a, I hereby delegate to the Under Secretary and Deputy Under Secretary of State for Management, to the extent authorized by law, all management-related functions now vested or which in the future may be vested in the Secretary of State or in the head of the Department of State, as well as the authority of the Secretary of State to approve submission of reports to the Congress.

This delegation covers the decision to submit to the Congress both one-time reports and recurring reports, including reporting functions vested in the Secretary of State in the future. However, this delegation shall not be construed to authorize the Under Secretary or Deputy Under Secretary to make waivers, certifications, determinations, findings, or other such statutorily required substantive actions that may be called for in connection with the submission of a report. The Under Secretary or Deputy Under Secretary shall be responsible for referring to the Secretary or to the Deputy Secretary any matter on which action would appropriately be taken by such official.

Functions delegated herein may be re-delegated, to the extent authorized by law. The Secretary of State or Deputy Secretary of State may at any time exercise any function delegation herein.

This delegation does not repeal or affect any delegation of authority currently in effect except Delegation of Authority 198, dated September 16, 1992, which is hereby revoked.

This delegation of authority shall be published in the Federal Register.

Dated: January 9, 2019.
Michael R. Pompeo,
Secretary of State, Department of State.

[FR Doc. 2019-02090 Filed 2-11-19; 8:45 am]

BILLING CODE 4710-10-P